DEPARTMENT OF ENERGY

Federal Energy Regulatory Commission

Combined Notice of Filings #1

Take notice that the Commission received the following electric corporate filings:

Docket Numbers: EC22-40-000.

Applicants: Broadlands Wind Farm LLC, Lexington Chenoa Wind Farm LLC.

Description: Joint Application for Authorization Under Section 203 of the Federal Power Act of Broadlands Wind Farm LLC, et al.

Filed Date: 2/11/22.

Accession Number: 20220211-5302.

Comment Date: 5 p.m. ET 3/4/22.

Take notice that the Commission received the following Complaints and Compliance filings in EL Dockets:

Docket Numbers: EL22-30-000.

Applicants: Southwestern Public Service Company v. Southwest Power Pool, Inc.

Description: Complaint of Southwestern Public Service Company Against Southwest Power Pool, Inc.

Filed Date: 2/11/22.

Accession Number: 20220211-5298.

Comment Date: 5 p.m. ET 3/3/22.

Docket Numbers: EL22-31-000.

Applicants: Northern Maine Independent System Administrator, Inc. v. ISO-New England Participating Transmission Owners Administrative Committee.

Description: Complaint of Northern Maine Independent System Administrator, Inc., v. ISO-New England Participating Transmission Owners Administrative Committee.

Filed Date: 2/14/22.

Accession Number: 20220214-5265.

Comment Date: 5 p.m. ET 3/7/22.

Take notice that the Commission received the following electric rate filings:

Docket Numbers: ER17-1821-004.

Applicants: Panda Stonewall LLC.

Description: Refund Report: Potomac Energy Center, LLC submits tariff filing per 35.19a(b): Refund Report to be effective N/A.

Filed Date: 2/15/22.

Accession Number: 20220215-5058.

Comment Date: 5 p.m. ET 3/8/22.

Docket Numbers: ER21-673-001.

Applicants: PA Solar Park II, LLC.

Description: Refund Report: PA Solar II Refund Report to be effective N/A.

Filed Date: 2/15/22.

Accession Number: 20220215-5144.

Comment Date: 5 p.m. ET 3/8/22.

Docket Numbers: ER21-1501-003.

Applicants: Sandy Ridge Wind, LLC.

Description: Compliance filing: Sandy Ridge Wind, LLC—Reactive Rate Service Compliance Filing (ER21-1501-) to be effective 5/24/2021.

Filed Date: 2/15/22.

Accession Number: 20220215-5164.

Comment Date: 5 p.m. ET 3/8/22.

Docket Numbers: ER22-726-001.

Applicants: Unitil Energy Systems, Inc.

Description: Tariff Amendment: Amendment to 75 to be effective 1/1/2022.

Filed Date: 2/15/22.

Accession Number: 20220215-5142.

Comment Date: 5 p.m. ET 3/8/22.

Docket Numbers: ER22-823-000.

Applicants: PJM Interconnection, L.L.C.

Description: § 205(d) Rate Filing: Amendment to ISA, Service Agreement No. 3761, Racine ISA (consent) to be effective 12/31/2013.

Filed Date: 1/14/22.

Accession Number: 20220114-5129.

Comment Date: 5 p.m. ET 2/18/22.

Docket Numbers: ER22-1049-000.

Applicants: Municipal Energy Agency of Nebraska.

Description: Request For Waiver of Tariff Provision, et al. of Municipal Energy Agency of Nebraska.

Filed Date: 2/14/22.

Accession Number: 20220214-5263.

Comment Date: 5 p.m. ET 3/4/22.

Docket Numbers: ER22-1050-000.

Applicants: DesertLink, LLC.

Description: § 205(d) Rate Filing: DesertLinks Formula Rate Revision Filing to be effective 4/18/2022.

Filed Date: 2/15/22.

Accession Number: 20220215-5079.

Comment Date: 5 p.m. ET 3/8/22.

Docket Numbers: ER22-1051-000.

Applicants: Alabama Power Company, Georgia Power Company, Mississippi Power Company.

Description: § 205(d) Rate Filing: Alabama Power Company submits tariff filing per 35.13(a)(2)(iii): CPV Stagecoach Solar LGIA Amendment Filing to be effective 2/1/2022.

Filed Date: 2/15/22.

Accession Number: 20220215-5096.

Comment Date: 5 p.m. ET 3/8/22.

Docket Numbers: ER22-1052-000.

Applicants: Alabama Power Company, Georgia Power Company, Mississippi Power Company.

Description: Tariff Amendment: Alabama Power Company submits tariff filing per 35.15: Glennville Solar LGIA Termination Filing to be effective 2/15/2022.

Filed Date: 2/15/22.

Accession Number: 20220215-5098.

Comment Date: 5 p.m. ET 3/8/22.

Docket Numbers: ER22-1053-000.

Applicants: ISO New England Inc.

Description: § 205(d) Rate Filing: ISO-NE; Exigent Circumstances Filing of Revisions to Section III.13 to be effective 2/16/2022.

Filed Date: 2/15/22.

Accession Number: 20220215-5104.

Comment Date: 5 p.m. ET 3/8/22.

Docket Numbers: ER22-1054-000.

Applicants: AEP Texas Inc.

Description: § 205(d) Rate Filing: AEPTX-Hecate Grid East Valley Generation Interconnection Agreement to be effective 2/3/2022.

Filed Date: 2/15/22.

Accession Number: 20220215-5109.

Comment Date: 5 p.m. ET 3/8/22.

Docket Numbers: ER22-1055-000.

Applicants: Trans Bay Cable LLC.

Description: § 205(d) Rate Filing: Annual TRBAA Filing—2021 to be effective 1/1/2022.

Filed Date: 2/15/22.

Accession Number: 20220215-5124.

Comment Date: 5 p.m. ET 3/8/22.

Docket Numbers: ER22-1056-000.

Applicants: Tri-State Generation and Transmission Association, Inc.

Description: § 205(d) Rate Filing: Amendment to Wholesale Electric Service Contracts to be effective 4/17/2022.

Filed Date: 2/15/22.

Accession Number: 20220215-5140.

Comment Date: 5 p.m. ET 3/8/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 15, 2022.
Debbie-Anne A. Reese,
Deputy Secretary.

[FR Doc. 2022-03687 Filed 2-18-22; 8:45 am]

BILLING CODE 6717-01-P